DEPARTMENT OF THE TREASURY

Internal Revenue Service

Special Enrollment Examination Advisory Committee; Notice of Partially Closed Meeting

AGENCY: Internal Revenue Service, Office of Director of Practice, Treasury.

ACTION: Notice of partially closed Federal advisory committee meeting.

SUMMARY: Notice is given of a partially closed meeting of the Special Enrollment Examination Advisory Committee.

DATES: The meeting will be held Wednesday, June 13, and Thursday, June 14, (8:30 a.m. to 5 p.m., both days) and Friday June 15 (8:30 to 11 a.m.) Written requests to speak at the meeting or to attend the public sessions of the meeting must be received no later than June 6, 2001.

ADDRESSES: The meeting will be held at the Headquarters Building of the IRS, 1111 Constitution Avenue, NW., Room 3716, Washington, DC. Written requests to speak at the meeting or to attend the public sessions of the meeting must be mailed, faxed, or e-mailed to: Internal Revenue Service, Office of Director of Practice, N:C:SC:DOP, Attn: Kathy Hughes, Designated Federal Officer, 1111 Constitution Avenue, NW., Washington, DC 20224; fax number 202-694-1934; e-mail address Kathy.E.Hughes@irs.gov.

FOR FURTHER INFORMATION CONTACT: Kathy Hughes, Designated Federal Officer, Special Enrollment Examination Advisory Committee, at 202-694-1851.

SUPPLEMENTARY INFORMATION: Pursuant to section 10(a)(2) of the Federal Advisory Committee Act (“FACA”), 5 U.S.C. App., notice is hereby given of the June 13 through June 15 meeting of the Special Enrollment Examination Advisory Committee (“SEEAC”). The purpose of the meeting is to cover the following agenda:

Wednesday, June 13, 2001

8:30 a.m.-9:30 a.m.

Public Session: Welcome by Patrick W. McDonough, Director of Practice, and Kathy Hughes, Enrollment Program Manager and Designated Federal Officer for the SEEAC. Solicitation of interest in serving as SEEAC Chairperson and selection of SEEAC Chairperson.

9:30 a.m.-10:30 a.m.

Public Session: Administration of 2001 Special Enrollment Examination: Review and discussion of SEE Critique Meeting and test challenges.

10:30 a.m.-11:00 a.m.

Closed Session: Status of 2002 Special Enrollment Examination Questions.

11:00 a.m.-12:00 noon

Closed Session: Planning the 2003 Special Enrollment Examination (Division of Work, Timeline and Procedures)

1:30 p.m.-5:00 p.m.

Working Session: Breakout Groups-Review of Topics and Objectives

Thursday, June 14, 2001

8:30 a.m.-3:30 p.m.

Public Session: Review and Discussion of Special Enrollment Examination Procedures, Structure and Requirements.

3:30 p.m.-5:00 p.m.

Public Session: Opportunity for interested individuals to offer remarks germane to agenda topics or Enrolled Agent Program.

Friday, June 15, 2001

8:30 a.m.-9:30 a.m.

Public Session: Demonstration of Enrolled Agent web page. Review and discussion of content, proposed changes, and discussion of suggestions for improvement.

9:30 a.m.-11:00 a.m.

Public Session: Discussion of sub-committee recommendation re: Continuing Professional Education requirements.

Under section 10(a)(1) of FACA, advisory committee meetings are generally open to the public. However, under section 10(d) of FACA, the head of an agency to which an advisory committee reports may determine in writing that all or any portion of a meeting shall be closed to the public in accordance with section (c) of the Government in the Sunshine Act, 5 U.S.C. 552b. A written determination has been made that, pursuant to section (c)(9)(B) of the Government in the Sunshine Act, portions of the meeting designated above as a “Closed Session” should be closed to public observation.

Beginning at 3:30 on Thursday, June 14, interested persons may speak at the meeting in accordance with the following limitations: (1) speakers' remarks must be germane to the topics listed above or germane to the Enrolled Agent Program; and (2) remarks must be limited to no more than 10 minutes. Persons wishing to speak must send Kathy Hughes, the Designated Federal Officer, a written request, and the text or outline of their remarks, prior to the meeting in order to allow for the compilation of a speakers list. Speakers will be entered on the list in order of the receipt of their requests. No more than nine requests will be accepted. Speakers will be notified of their position on the list, or in case more than nine requests are received, that their requests to speak cannot be granted. Persons interested in attending the public session (but not speaking) must also send Kathy Hughes a written request prior to the meeting in order to allow for adequate seating. Every effort will be made to accommodate all requests for attendance.

Written requests to speak and written requests to attend must be received no later than June 6, 2001.

At any time, any interested person may submit a written statement concerning the SEE or the Enrolled Agent Program. Such statements will be considered by the Director of Practice and, at his discretion, may be referred to the Committee for discussion at a later meeting.

Dated: May 24, 2001.
Patrick W. McDonough,
Director of Practice.

[FR Doc. 01-13537 Filed 5-29-01; 8:45 am]

BILLING CODE 4830-01-P